DEPARTMENT OF JUSTICE

Antitrust Division

Notice Pursuant to the National Cooperative Research and Production Act of 1993—Cooperative Research Group on Evaluation of Distributed Leak Detection Systems—Performance Testing

Notice is hereby given that, on April 3, 2014, pursuant to Section 6(a) of the National Cooperative Research and Production Act of 1993, 15 U.S.C. 4301 et seq. (“the Act”), Southwest Research Institute—Cooperative Research Group on Evaluation of Distributed Leak Detection Systems—Performance Testing (“LDS-PT”) has filed written notifications simultaneously with the Attorney General and the Federal Trade Commission disclosing changes in its membership, nature and objective. The notifications were filed for the purpose of extending the Act's provisions limiting the recovery of antitrust plaintiffs to actual damages under specified circumstances. Specifically, Chevron Pipe Line Company, Bellaire, TX; and BP, Tulsa, OK, have been added as parties to this venture. The changes in its nature and objectives are: The period of performance has been extended to May 15, 2014; the scope of the planned activity will enter Phase II, which is intended to study the thermal and acoustic signals generated by leaks in submerged pipelines and then to perform end-to-end testing in which a leak is simulated and the technologies' alarm systems are evaluated. The objectives are to test the suitability of such technologies for detecting leaks and to understand some of the key parameters (e.g., hole location) that impact detection. Phase II will serve as the mechanism to the evaluation of these leak detection systems, facilitating (1) pooling of resources to reduce financial impact to any one company for moving forward with product validation, (2) providing the leak detection vendor community with drivers to increase innovation, (3) consolidating various test cases into a more uniform and standardized approach, and (4) providing a mechanism for capturing industry knowledge of technology limitations.

No other changes have been made in either the membership or planned activity of the group research project. Membership in this group research project remains open, and LDS-PT intends to file additional written notifications disclosing all changes in membership.

On April 6, 2012, LDS-PT filed its original notification pursuant to Section 6(a) of the Act. The Department of Justice published a notice in the Federal Register pursuant to Section 6(b) of the Act on May 4, 2012 (77 FR 26583).

Patricia A. Brink,
Director of Civil Enforcement, Antitrust Division.

[FR Doc. 2014-10525 Filed 5-7-14; 8:45 am]

BILLING CODE P